DEPARTMENT OF ENERGY

Federal Energy Regulatory Commission

[Docket No. ER01-2412-000, et al.]

Xcel Energy Operating Companies, et al.; Electric Rate and Corporate Regulation Filings

June 29, 2001.

Take notice that the following filings have been made with the Commission:

1. Xcel Energy Operating Companies, Northern States Power Company, Northern States Power Company (Wisconsin)

[Docket No. ER01-2412-000]

Take notice that on June 22, 2001, Northern States Power Company and Northern States Power Company (Wisconsin) (jointly NSP), wholly-owned utility operating company subsidiaries of Xcel Energy Inc., tendered for filing a Non-Firm and a Short-Term Firm Point-to-Point Transmission Service Agreement between NSP and Missouri River Energy Services. NSP proposes the Agreements be included in the Xcel Energy Operating Companies FERC Joint Open Access Transmission Tariff, Original Volume No. 1, as Service Agreements 191-NSP and 192-NSP, pursuant to Order No. 614.

NSP requests that the Commission accept the agreement effective June 4, 2001, and requests waiver of the Commission's notice requirements in order for the agreements to be accepted for filing on the date requested.

Comment date: July 13, 2001, in accordance with Standard Paragraph E at the end of this notice.

2. American Electric Power Service Corporation

[Docket No. ER01-2413-000]

Take notice that on June 25, 2001, the American Electric Power Service Corporation (AEPSC) tendered for filing executed Interconnection and Operation Agreement between Indiana Michigan Power Company and Sugar Creek Energy, L.L.C. The agreement is pursuant to the AEP Companies' Open Access Transmission Service Tariff (OATT) that has been designated as the Operating Companies of the American Electric Power System FERC Electric Tariff Revised Volume No. 6, effective June 15, 2000.

AEP requests an effective date of August 24, 2001. A copy of the filing was served upon the Indiana Utility Regulatory Commission and Michigan Public Service Commission.

Comment date: July 16, 2001, in accordance with Standard Paragraph E at the end of this notice.

3. Wisconsin Public Service Corporation

[Docket No. ER01-2414-000]

Take notice that, on June 25, 2001, Wisconsin Public Service Corporation (WPSC) filed an executed long-term service agreement with Allegheny Energy Supply Company, LLC (Allegheny) under WPSC's market-based rate tariff, FERC Electric Tariff, Third Revised Volume No. 10 (Tariff). A copy of the filing was served upon Allegheny.

WPSC requests that the Commission waive its notice of filing requirements to allow the service agreement to become effective on May 26, 2001.

Comment date: July 16, 2001, in accordance with Standard Paragraph E at the end of this notice.

4. Ohio Valley Electric Corporation

[Docket No. ER01-2415-000]

Take notice that on June 25, 2001, Ohio Valley Electric Corporation (OVEC) tendered for filing an Amended and Restated Interconnection and Operation Agreement, dated June 19, 2001, between Jackson County Power, LLC (JCP) and OVEC. Copies of this filing were served upon JCP and the Public Utilities Commission of Ohio.

Comment date: July 16, 2001, in accordance with Standard Paragraph E at the end of this notice.

5. PPL Montana, LLC

[Docket No. ER01-2416-000]

Take notice that on June 25, 2001, PPL Montana, LLC (PPL Montana) filed with the Commission a Service Agreement between PPL Montana and The Montana Power Company. PPL Montana requests that the Commission grant a waiver so as to permit the Service Agreement to become effective on June 20, 2001. PPL Montana states that it has served a copy of this filing on The Montana Power Company.

Comment date: July 16, 2001, in accordance with Standard Paragraph E at the end of this notice.

6. Consumers Energy Company

[Docket No. ER01-2417-000]

Take notice that on June 25, 2001 Consumers Energy Company (Consumers) tendered for filing a Service Agreement with Duke Energy Trading and Marketing, L.L.C., (Customer) under Consumers FERC Electric Tariff No. 9 for Market Based Sales. Consumers requested that the Agreement be allowed to become effective as of the date of its filing. Copies of the filing were served upon the Customer and the Michigan Public Service Commission.

Comment date: July 16, 2001, in accordance with Standard Paragraph E at the end of this notice.

7. Northern Indiana Public Service Company

[Docket No. ER01-2418-000]

Take notice that on June 25, 2001, Northern Indiana Public Service Company tendered for filing an executed Standard Transmission Service Agreement for Non-Firm Point-to-Point Transmission Service between Northern Indiana Public Service Company and Calpine Energy Services, L.P. (Calpine). Under the Transmission Service Agreement, Northern Indiana Public Service Company will provide Non-Firm Point-to-Point Transmission Service to Calpine pursuant to the Transmission Service Tariff filed by Northern Indiana Public Service Company in Docket No. OA96-47-000 and allowed to become effective by the Commission. Copies of this filing have been sent to Calpine Energy Services, L.P. the Indiana Utility Regulatory Commission, and the Indiana Office of Utility Consumer Counselor.

Northern Indiana Public Service Company has requested that the Service Agreement be allowed to become effective as of June 26, 2001.

Comment date: July 16, 2001, in accordance with Standard Paragraph E at the end of this notice.

8. Wisconsin Electric Power Company

[Docket No. ER01-2420-000]

Take notice that on June 26, 2001, Wisconsin Electric Power Company (Wisconsin Electric), tendered for filing an electric service agreement under its Market Rate Sales Tariff (FERC Electric Tariff, Original Volume No. 8) with The Detroit Edison Company. Copies of the filing have been served on The Detroit Edison Company, the Michigan Public Service Commission, and the Public Service Commission of Wisconsin.

Wisconsin Electric respectfully requests an effective date of June 25, 2001 to allow for economic transactions.

Comment date: July 17, 2001, in accordance with Standard Paragraph E at the end of this notice.

9. Cinergy Services, Inc.

[Docket No. ER01-1820-002]

Take notice that on June 26, 2001, Cinergy Services, Inc. on behalf of The Cincinnati Gas & Electric Co. and PSI Energy tendered a compliance filing regarding its proposed short-form market-based rate tariff. Copies of this filing have been served on the Indiana Regulatory Commission, Kentucky Public Service Commission and the Public Utilities Commission of Ohio.

Comment date: July 17, 2001, in accordance with Standard Paragraph E at the end of this notice.

10. Gauley River Power Partners, L.P.

[Docket No. ER01-1964-001]

Take notice that on June 26, 2001, Gauley River Power Partners, L.P. filed revised tariff sheets in compliance with the Commission's June 22, 2001 order in this proceeding.

Comment date: July 17, 2001, in accordance with Standard Paragraph E at the end of this notice.

11. Pennsylvania Electric Company

[Docket No. ER01-2072-001]

Take notice that on June 26, 2001, Pennsylvania Electric Company (Penelec) (doing business as GPU Energy) submitted an amendment to its filing made on May 17, 2001 in this docket.

Comment date: July 17, 2001, in accordance with Standard Paragraph E at the end of this notice.

12. Boston Edison Company, Cambridge Electric Light Company, Commonwealth Electric Company

[Docket No. ER01-2291-001]

Take notice that on June 26, 2001, Boston Edison Company, Cambridge Electric Light Company, and Commonwealth Electric Company (The NSTAR Companies) tendered for filing revised tariff sheets to their Open Access Transmission Tariffs in this proceeding to reflect corrections to typographical errors contained in the original filing made on June 12, 2001, which expand their offered services over the NSTAR Companies' entitlements to the Phase I/Phase II HVDC facilities.

Comment date: July 17, 2001, in accordance with Standard Paragraph E at the end of this notice.

13. Commonwealth Edison Company

[Docket No. ER01-2387-001]

Take notice that on June 26, 2001, Commonwealth Edison Company (ComEd) filed an amendment and restated Interconnection Agreement between ComEd and LSP-Nelson Energy LLC to replace and supersede the Interconnection Agreement filed by ComEd in Docket No. ER00-3509-000 on August 24, 2000.

Comment date: July 13, 2001, in accordance with Standard Paragraph E at the end of this notice.

14. EOPT Power Group Nevada, Inc.

[Docket No. ER01-1897-001]

Take notice that on June 26, 2001, EOPT Power Group Nevada, Inc. (EOPT) filed an Amendment of its Petition filed with the Federal Energy Regulatory Commission for acceptance of its FERC Electric Tariff No. 1.

Comment date: July 17, 2001, in accordance with Standard Paragraph E at the end of this notice.

15. CinCap IX, LLC.

[Docket No. ER01-2054-001]

Take notice that on June 26, 2001, CinCap IX, LLC tendered for filing an amendment to its May 15, 2001 application for authorization to sell power and ancillary services at market-based rates, and to reassign transmission capacity.

Comment date: July 17, 2001, in accordance with Standard Paragraph E at the end of this notice.

16. Southern Company Services, Inc.

[Docket No. ER01-2419-000]

Take notice that on June 26, 2001, Southern Company Services, Inc. (SCS), acting on behalf of Alabama Power Company (APC), Georgia Power Company, Gulf Power Company, Mississippi Power Company, and Savannah Electric and Power Company (collectively referred to as Southern Companies), filed an agreement for network integration transmission service between Southern Companies and Energy Marketing, a department of SCS, as agent for APC, under the Open Access Transmission Tariff of Southern Companies (FERC Electric Tariff, Fourth Revised Volume No. 5).

Comment date: July 17, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-17057 Filed 7-6-01; 8:45 am]

BILLING CODE 6717-01-P